DEPARTMENT OF COMMERCE

International Trade Administration

[A-588-878]

Glycine From Japan: Preliminary Results of Antidumping Duty Administrative Review; 2021-2022

AGENCY: Enforcement and Compliance, International Trade Administration, Department of Commerce.

SUMMARY: The U.S. Department of Commerce (Commerce) preliminarily finds that producers or exporters subject to this administrative review did not make sales of subject merchandise at less than normal value during the period of review June 1, 2021, through May 31, 2022. We invite interested parties to comment on these preliminary results.

DATES: Applicable July 7, 2023.

FOR FURTHER INFORMATION CONTACT: John K. Drury, AD/CVD Operations, Office VI, Enforcement and Compliance, International Trade Administration, U.S. Department of Commerce, 1401 Constitution Avenue NW, Washington, DC 20230; telephone: (202) 482-0195.

SUPPLEMENTARY INFORMATION:

Background

On June 21, 2019, Commerce published the antidumping duty order on glycine from Japan.¹ On June 3, 2022, Commerce published in the Federal Register a notice of opportunity to request an administrative review of the Order.² On August 9, 2022, Commerce published the notice of initiation of the administrative review of the Order.³ On February 24, 2023, Commerce extended the time limit for these preliminary results to June 30, 2023, in accordance with section 751(a)(3)(A) of the Tariff Act of 1930, as amended (the Act).⁴

¹ See Glycine from India and Japan: Amended Final Affirmative Antidumping Duty Determination and Antidumping Duty Orders, 84 FR 29170 (June 21, 2019) (Order).

² See Antidumping or Countervailing Duty Order, Finding, or Suspended Investigation; Opportunity to Request Administrative Review and Join Annual Inquiry Service List, 87 FR 33706, 33708 (June 3, 2022).

³ See Initiation of Antidumping and Countervailing Duty Administrative Reviews, 87 FR 48459, 48462 (August 9, 2022) (Initiation Notice).

⁴ See Memorandum, “Extension of Deadline for Preliminary Results of Antidumping Duty Administrative Review,” dated February 24, 2023.

Scope of the Order

The merchandise subject to the Order is glycine. For a complete description of the scope of the Order, see the Preliminary Decision Memorandum.⁵

⁵ See Memorandum, “Decision Memorandum for Preliminary Results of Antidumping Duty Administrative Review; 2021-2022: Glycine from Japan,” dated concurrently with, and hereby adopted by, this notice (Preliminary Decision Memorandum).

Methodology

Commerce is conducting this review in accordance with section 751(a)(2) of the Act. Export price and constructed export price are calculated in accordance with section 772 of the Act. Normal value is calculated in accordance with section 773 of the Act. For a full description of the methodology underlying our conclusions, see the Preliminary Decision Memorandum. The Preliminary Decision Memorandum is a public document and is made available to the public via Enforcement and Compliance's Antidumping and Countervailing Duty Centralized Electronic Service System (ACCESS). ACCESS is available to registered users at https://access.trade.gov. In addition, a complete version of the Preliminary Decision Memorandum can be found at https://access.trade.gov/public/FRNoticesListLayout.aspx. A list of the topics discussed in the Preliminary Decision Memorandum is attached as an appendix to this notice.

Preliminary Results of Review

We preliminarily determine that the following estimated weighted-average dumping margin exists for the period June 1, 2021, through May 31, 2022.

Producer/exporter | Estimated weighted- average dumping margin (percent)
Yuki Gosei Kogyo Co., Ltd./Nagase & Co., Ltd.⁶ | 0.00

Disclosure and Public Comment

⁶ As explained in the Preliminary Decision Memorandum, based on the record information, Commerce preliminarily determines that Nagase & Co., Ltd. and Yuki Gosei Kogyo Co., Ltd. are affiliated within the meaning of section 771(33)(E) of the Act and should be treated as a single entity pursuant to 19 CFR 351.401(f) for these preliminary results of review.

We intend to disclose the calculations performed to parties in this administrative review within five days after public announcement of the preliminary results, in accordance with 19 CFR 351.224(b).

Pursuant to 19 CFR 351.309(c), interested parties may submit case briefs no later than 30 days after the date of publication of this notice. Rebuttal briefs, limited to issues raised in the case briefs, may be filed not later than seven days after the date for filing case briefs.⁷ Commerce has modified certain of its requirements for serving documents containing business proprietary information until further notice.⁸ Parties who submit case briefs or rebuttal briefs in this proceeding are encouraged to submit with each argument: (1) a statement of the issue; (2) a brief summary of the argument; and (3) a table of authorities.⁹

⁷ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”).

⁸ See Temporary Rule Modifying AD/CVD Service Requirements Due to COVID-19; Extension of Effective Period, 85 FR 41363 (July 10, 2020).

⁹ See 19 CFR 351.303 (for general filing requirements).

Pursuant to 19 CFR 351.310(c), interested parties who wish to request a hearing must submit a written request to the Assistant Secretary for Enforcement and Compliance, filed electronically via ACCESS. Requests should contain: (1) the party's name, address and telephone number; (2) the number of participants; and (3) a list of issues to be discussed. Issues raised in the hearing will be limited to those raised in the respective case briefs. If a request for a hearing is made, Commerce intends to hold the hearing at a time and date to be determined. An electronically filed hearing request must be received successfully in its entirety by Commerce's electronic records system, ACCESS, by 5 p.m. Eastern Time within 30 days after the date of publication of this notice.¹⁰

¹⁰ See 19 CFR 351.310(c).

Commerce intends to issue the final results of this administrative review, including the results of its analysis of the issues raised in any written briefs, no later than 120 days after the date of publication of this notice, unless extended, pursuant to section 751(a)(3)(A) of the Act.

Assessment Rates

Upon completion of the final results, Commerce shall determine, and U.S. Customs and Border Protection (CBP) shall assess, antidumping duties on all appropriate entries.¹¹ If the weighted-average dumping margin for Yuki Gosei Kogyo Co., Ltd./Nagase & Co., Ltd. is not zero or de minimis (i.e., less than 0.5 percent) in the final results of this review, we will calculate an importer-specific assessment rate. Where the respondent reported reliable entered values, Commerce intends to calculate importer/customer-specific ad valorem assessment rates on the basis of the ratio of the total amount of dumping calculated for each importer's examined sales and the total entered value of such sales in accordance with 19 CFR 351.212(b)(1).¹² Where the respondent did not report entered values, in accordance with 19 CFR 351.212(b)(1), Commerce will calculate importer/customer-specific assessment rates by dividing the amount of dumping for reviewed sales to the importer/customer by the total quantity of those sales. Commerce will calculate an estimated ad valorem importer/customer-specific assessment rate to determine whether the per-unit assessment rate is de minimis; however, Commerce will use the per-unit assessment rate where entered values were not reported. Where an importer/customer-specific ad valorem assessment rate is not zero or de minimis, Commerce will instruct CBP to collect the appropriate duties at the time of liquidation. If Yuki Gosei Kogyo Co., Ltd./Nagase & Co., Ltd.'s weighted-average dumping margin is zero or de minimis in the final results of review, or if an importer-specific assessment rate for one of these companies is zero or de minimis, Commerce will instruct CBP to liquidate appropriate entries without regard to antidumping duties.¹³ For entries of subject merchandise during the period of review produced by any of these companies for which it did not know its merchandise was destined for the United States, we will instruct CBP to liquidate unreviewed entries.¹⁴

¹¹ See 19 CFR 351.212(b)(1).

¹² See Antidumping Proceedings: Calculation of the Weighted-Average Dumping Margin and Assessment Rate in Certain Antidumping Proceedings: Final Modification, 77 FR 8101, 8103 (February 14, 2012).

¹³ Id. at 8102-03; see also 19 CFR 351.106(c)(2).

¹⁴ See Antidumping and Countervailing Duty Proceedings: Assessment of Antidumping Duties, 68 FR 23954 (May 6, 2003).

Consistent with its recent notice,¹⁵ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). The final results of this administrative review shall be the basis for the assessment of antidumping duties on entries of merchandise under review and for future cash deposits of estimated antidumping duties, where applicable.

¹⁵ See Notice of Discontinuation of Policy to Issue Liquidation Instructions After 15 Days in Applicable Antidumping and Countervailing Duty Administrative Proceedings, 86 FR 3995 (January 15, 2021).

Cash Deposit Requirements

The following cash deposit requirements will be effective upon publication in the Federal Register of the notice of final results of administrative review for all shipments of glycine from Japan entered, or withdrawn from warehouse, for consumption on or after the date of publication as provided by section 751(a)(2) of the Act: (1) the cash deposit rate for companies subject to this review will be equal to the company-specific weighted-average dumping margin established in the final results of the review; (2) for merchandise exported by a company not covered in this review but covered in a prior segment of the proceeding, the cash deposit rate will continue to be the company-specific rate published in the completed segment for the most recent period; (3) if the exporter is not a firm covered in this review, a prior review, or the original investigation but the producer is, the cash deposit rate will be the rate established in the completed segment for the most recent period for the producer of the merchandise; (4) the cash deposit rate for all other producers or exporters will be 53.66 percent, the all-others rate established in the less-than-fair-value investigation.¹⁶ These cash deposit requirements, when imposed, shall remain in effect until further notice.

¹⁶ See Glycine from India and Japan: Amended Final Affirmative Antidumping Duty Determination and Antidumping Duty Orders, 84 FR 29170, 29171 (June 21, 2019).

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Act and 19 CFR 351.221.

Dated: June 29, 2023.
Lisa W. Wang,
Assistant Secretary for Enforcement and Compliance.

Appendix

List of Topics Discussed in the Preliminary Decision Memorandum

I. Summary

II. Background

III. Scope of the Order

IV. Affiliation

V. Discussion of the Methodology

VI. Currency Conversion

VII. Recommendation

[FR Doc. 2023-14393 Filed 7-6-23; 8:45 am]

BILLING CODE 3510-DS-P